DEPARTMENT OF ENERGY

Federal Energy Regulatory Commission

[Docket Nos. ER01-2192-000 and EL01-85-000]

ISO New England Inc.; Notice of Filing

June 12, 2001.

Take notice that on May 31, 2001, ISO New England Inc. (the ISO) submitted Market Rule IX (Standard Market Design) under Section 205 of the Federal Power Act and Section 6.17(e) of the Interim Independent System Operator Agreement, together with a request under Section 206 of the Federal Power Act that the New England Power Pool (NEPOOL) be directed to file conforming changes to the Restated NEPOOL Agreement and the NEPOOL Open Access Transmission Tariff.

Copes of said filing have been served upon NEPOOL Participants and upon all non-Participant entities that are customers under the NEPOOL Open Access Transmission Tariff, as well as upon the governors and utility regulatory agencies of the six New England States.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 21, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15225 Filed 6-15-01; 8:45 am]

BILLING CODE 6717-01-M